DEPARTMENT OF HOMELAND SECURITY

Coast Guard

33 CFR Part 117

[Docket No. USCG-2015-0534]

Drawbridge Operation Regulation; Bayou Sara, Near Saraland, Mobile County, AL

AGENCY: Coast Guard, DHS.

ACTION: Notice of deviation from drawbridge regulations.

SUMMARY: The Coast Guard has issued a temporary deviation from the operating schedule that governs the CSX Railway Company swing span bridge across Bayou Sara, mile 0.1, near Saraland, Mobile County, Alabama. The deviation is necessary to complete scheduled core borings behind the fender system of the bridge. This deviation will allow the bridge to remain in the closed-to-navigation position for 24 consecutive hours.

DATES: This deviation is effective from 6 a.m. on June 29, 2015 until 6 a.m. on June 30, 2015.

ADDRESSES: Documents mentioned in this preamble are part of docket [USCG-2015-0534]. To view documents mentioned in this preamble as being available in the docket, go to http://www.regulations.gov, type the docket number (USCG-2015-0534) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Wetherington, Bridge Administration Branch, Coast Guard; telephone 504-671-2128, email d8dpball@uscg.mil. If you have questions on viewing the docket, call Cheryl Collins, Program Manager, Docket Operations, telephone 202-366-9826.

SUPPLEMENTARY INFORMATION: The CSX Railway Company has requested a temporary deviation from the operating schedule of the swing span railroad bridge across Bayou Sara, mile 0.1, near Saraland, Mobile County, Alabama. The bridge provides three feet of vertical clearance in the closed-to-navigation position. Due to the core boring operations within the bridge footprint and safety concerns, vessels will not be allowed to pass through the bridge while the work is ongoing. The bridge will be unable to open in the event of an emergency.

In accordance with 33 CFR 117.105, the bridge currently opens on signal for the passage of vessels except that between the hours of 6 p.m. and 10 a.m. daily, it opens on signal if at least eight hours notice is given. This deviation allows the swing span of the bridge to remain in the closed-to-navigation position from 6 a.m. on June 29, 2015 until 6 a.m. on June 30, 2015.

Navigation on the waterway consists of fishing vessels and recreational craft. An alternate route is not available. Based on prior experience of minimal traffic and the current regulation requiring eight hours notice between 6 p.m. and 10 a.m. each day, it has been determined that this closure will not have a significant effect on these vessels.

The closure is necessary for core boring operations within the footprint of the bridge. These operations will continue until completed and will not allow the normal operation of the bridge. Normal operations will commence upon completion of the work. Notices will be published in the Eighth Coast Guard District Local Notice to Mariners and will be broadcast via the Coast Guard Broadcast Notice to Mariners System.

In accordance with 33 CFR 117.35(e), the drawbridge must return to its regular operating schedule immediately at the end of the effective period of this temporary deviation. This deviation from the operating regulations is authorized under 33 CFR 117.35.

Dated: June 10, 2015.
David M. Frank,
Bridge Administrator, Eighth Coast Guard District.

[FR Doc. 2015-14660 Filed 6-15-15; 8:45 am]

BILLING CODE 9110-04-P